NUCLEAR REGULATORY COMMISSION

[NRC-2016-0267]

Information Collection: NUREG/BR-0254, Payment Methods and NRC Form 629, Authorization for Payment by Credit Card

AGENCY: Nuclear Regulatory Commission.

ACTION: Notice of submission to the Office of Management and Budget; request for comment.

SUMMARY: The U.S. Nuclear Regulatory Commission (NRC) invites public comment on the renewal of Office of Management and Budget (OMB) approval for an existing collection of information. The information collection is titled, “NUREG/BR-0254, Payment Methods and NRC Form 629, Authorization for Payment by Credit Card.”

DATES: Submit comments by July 3, 2017.

ADDRESSES: Submit comments directly to the OMB reviewer at: Aaron Szabo, Desk Officer, Office of Information and Regulatory Affairs, OMB 3150-0190, NEOB-10202, Office of Management and Budget, Washington, DC 20503; telephone: 202-395-3621, email: oira_submission@omb.eop.gov.

FOR FURTHER INFORMATION CONTACT: David Cullison, NRC Clearance Officer, U.S. Nuclear Regulatory Commission, Washington, DC 20555-0001; telephone: 301-415-2084; email: INFOCOLLECTS.Resource@nrc.gov.

SUPPLEMENTARY INFORMATION:

I. Obtaining Information and Submitting Comments

A. Obtaining Information

Please refer to Docket ID NRC-2016-0267 when contacting the NRC about the availability of information for this action. You may obtain publicly-available information related to this action by any of the following methods:

• Federal Rulemaking Web site: Go to http://www.regulations.gov and search for Docket ID NRC-2016-0267.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The supporting statement and “NUREG/BR-0254, Payment Methods and NRC Form 629, Authorization for Payment by Credit Card,” are available in ADAMS under Accession ML16341A835.

• NRC's PDR: You may examine and purchase copies of public documents at the NRC's PDR, Room O1-F21, One White Flint North, 11555 Rockville Pike, Rockville, Maryland 20852-2738.

• NRC's Clearance Officer: A copy of the collection of information and related instructions may be obtained without charge by contacting the NRC's Clearance Officer, David Cullison, Office of the Chief Information Officer, U.S. Nuclear Regulatory Commission, Washington, DC 20555-0001; telephone: 301-415-2084; email: INFOCOLLECTS.Resource@NRC.GOV.

B. Submitting Comments

The NRC cautions you not to include identifying or contact information that you do not want to be publicly disclosed in your comment submission. The NRC posts all comment submissions at http://www.regulations.gov as well as entering the comment submissions into ADAMS. The NRC does not routinely edit comment submissions to remove identifying or contact information.

If you are requesting or aggregating comments from other persons for submission to the OMB, then you should inform those persons not to include identifying or contact information that they do not want to be publicly disclosed in their comment submission. Your request should state that the NRC does not routinely edit comment submissions to remove such information before making the comment submissions available to the public or entering the comment submissions into ADAMS.

II. Background

Under the provisions of the Paperwork Reduction Act of 1995 (44 U.S.C. Chapter 35), the NRC recently submitted a request for renewal of an existing collection of information to OMB for review titled, “NUREG/BR-0254, Payment Methods and NRC Form 629, Authorization for Payment by Credit Card.” The NRC hereby informs potential respondents that an agency may not conduct or sponsor, and that a person is not required to respond to, a collection of information unless it displays a currently valid OMB control number.

The NRC published a Federal Register notice with a 60-day comment period on this information collection on February 17, 2017 (82 FR 11072).

1. The title of the information collection: NUREG/BR-0254, Payment Methods and NRC Form 629, Authorization for Payment by Credit Card.

2. OMB approval number: 3150-0190.

3. Type of submission: Revision.

4. The form number if applicable: NRC Form 629.

5. How often the collection is required or requested: As needed to process credit card payments.

6. Who will be required or asked to respond: Anyone doing business with the NRC, including licensees, applicants and individuals who are required to pay a fee for inspections and licenses.

7. The estimated number of annual responses: 677.

8. The estimated number of annual respondents: 677.

9. An estimate of the total number of hours needed annually to comply with the information collection requirement or request: 113.

10. Abstract: The U.S. Department of the Treasury encourages the public to pay monies owed to the government through use of the Automated Clearinghouse Network and credit cards. These two methods of payment are used by licensees, applicants, and individuals to pay civil penalties, full cost licensing fees, and annual licensing fees to the NRC.

Dated at Rockville, Maryland, this 25th day of May 2017.
For the Nuclear Regulatory Commission.
David Cullison,
NRC Clearance Officer, Office of the Chief Information Officer.

[FR Doc. 2017-11248 Filed 5-31-17; 8:45 am]

BILLING CODE 7590-01-P